DEPARTMENT OF TRANSPORTATION

Federal Aviation Administration

14 CFR Part 39

[Docket No. FAA-2012-1074; Directorate Identifier 2012-NM-027-AD; Amendment 39-17331; AD 2013-02-10]

RIN 2120-AA64

Airworthiness Directives; Airbus Airplanes

AGENCY: Federal Aviation Administration (FAA), Department of Transportation (DOT).

ACTION: Final rule.

SUMMARY: We are adopting a new airworthiness directive (AD) for all Airbus Model A330-200 Freighter series airplanes; Model A330-200 and -300 series airplanes; and Model A340-200 and -300 series airplanes. This AD was prompted by a report of a manufacturing defect in certain rods installed in the belly fairing, which could lead to cracks at the crimped end of the rod. This AD requires an inspection of the rods to determine the manufacturer; and for affected parts, an inspection for any cracking of the rods, and related investigative and corrective actions if necessary. We are issuing this AD to detect and correct cracking of the rods, which could result in rupture of rods that attach the belly fairing to the airframe, leading to separation of the belly fairing from the airframe, and consequent damage to airplane structure and airplane systems.

DATES: This AD becomes effective March 8, 2013.

The Director of the Federal Register approved the incorporation by reference of certain publications listed in this AD as of March 8, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Discussion

We issued a notice of proposed rulemaking (NPRM) to amend 14 CFR part 39 to include an AD that would apply to the specified products. That NPRM was published in the Federal Register on October 16, 2012 (77 FR 63264). That NPRM proposed to correct an unsafe condition for the specified products. The Mandatory Continuing Airworthiness Information (MCAI) states:

A rod manufacturing process defect has been identified at the supplier, Technical Airborne Components Industries (TAC), which could lead to cracks at the crimped end of the rod.

A design review of all affected rods has demonstrated that rupture of rods which attach the belly fairing can lead to separation of the belly fairing from the airframe, which would constitute an unsafe condition.

For the reasons described above, this [European Aviation Safety Agency (EASA)] AD requires detailed visual inspections of the 21 affected rods installed in the belly fairing for manufacturer identification, and if TAC is identified as manufacturer, or if the manufacturer cannot be identified, to further inspect the rods to find any crack, using a high frequency eddy current (HFEC) method and, depending on findings, accomplishment of the applicable [related investigative and] corrective actions, to ensure structural integrity of the belly fairing rods. This [EASA] AD also prohibits installation of an affected TAC rod as replacement part in the belly fairing to all aeroplanes.

A design review of all affected rods has demonstrated that rupture of rods that attach the belly fairing can lead to separation of the belly fairing from the airframe, which can cause damage to airplane structure and airplane systems. The related investigative actions include an inspection to determine the manufacturer and an HFEC inspection of any affected replacement rod for any cracking. The corrective actions include replacing the cracked rod with a new rod. You may obtain further information by examining the MCAI in the AD docket.

Comments

We gave the public the opportunity to participate in developing this AD. We received no comments on the NPRM (77 FR 63264, October 16, 2012) or on the determination of the cost to the public.

Conclusion

We reviewed the available data and determined that air safety and the public interest require adopting the AD as proposed except for minor editorial changes. We have determined that these minor changes:

• Are consistent with the intent that was proposed in the NPRM (77 FR 63264, October 16, 2012) for correcting the unsafe condition; and

• Do not add any additional burden upon the public than was already proposed in the NPRM/(77 FR 63264, October 16, 2012).

Costs of Compliance

We estimate that this AD will affect 54 products of U.S. registry. We also estimate that it will take about 13 work-hours per product to comply with the basic requirements of this AD. The average labor rate is $85 per work-hour. Based on these figures, we estimate the cost of this AD to the U.S. operators to be $59,670, or $1,105 per product.

In addition, we estimate that any necessary follow-on actions would take about 28 work-hours and require parts costing $0, for a cost of $2,380 per product. Where the service information lists required parts costs that are covered under warranty, we have assumed that there will be no charge for these parts. As we do not control warranty coverage for affected parties, some parties may incur costs higher than estimated here. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 63264, October 16, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-02-10 Airbus: Amendment 39-17331. Docket No. FAA-2012-1074; Directorate Identifier 2012-NM-027-AD.

(a) Effective Date

This airworthiness directive (AD) becomes effective March 8, 2013.

(b) Affected ADs

None.

(c) Applicability

This AD applies to all airplanes identified in paragraphs (c)(1) and (c)(2) of this AD, certificated in any category.

(1) Airbus Model A330-201, -202, -203, -223, -223F, -243, -243F, -301, -302, -303, -321, -322, -323, -341, -342, and -343 airplanes.

(2) Airbus Model A340-211, -212, -213, -311, -312, and -313 airplanes.

(d) Subject

Air Transport Association (ATA) of America Code 53, Fuselage.

(e) Reason

This AD was prompted by a report of a manufacturing defect in certain rods installed in the belly fairing, which could lead to cracks at the crimped end of the rod. We are issuing this AD to detect and correct cracking of the rods, which could result in rupture of rods that attach the belly fairing to the airframe, leading to separation of the belly fairing from the airframe, and consequent damage to airplane structure and airplane systems.

(f) Compliance

You are responsible for having the actions required by this AD performed within the compliance times specified, unless the actions have already been done.

(g) Actions

For Model A330-201, -202, -203, -223, -223F, -243, -243F, -301, -302, -303, -321, -322, -323, -341, -342, and -343 airplanes, having manufacturer serial number (MSN) 0002 to 1113 inclusive, except MSN 0996, 1039, 1054, 1059, 1105, 1107, 1108 and 1112; and Model A340-211, -212, -213, -311, -312, and -313 airplanes: Within 72 months after the effective date of this AD, accomplish the actions in paragraphs (g)(1) and (g)(2) of this AD, in accordance with the Accomplishment Instructions of Airbus Mandatory Service Bulletin A330-53-3186, Revision 01, dated April 7, 2011 (for Model A330 airplanes); or A340-53-4185, Revision 01, dated April 7, 2011 (for Model A340 airplanes).

(1) Do a detailed inspection of the 21 rods of the belly fairing identified in Airbus Mandatory Service Bulletin A330-53-3186, Revision 01, dated April 7, 2011 (for Model A330 airplanes); or A340-53-4185, Revision 01, dated April 7, 2011 (for Model A340 airplanes); for rod manufacturer identification. A review of airplane maintenance records is acceptable in lieu of this inspection if the manufacturer of the rods can be conclusively determined from that review.

(2) If the rod manufacturer is found to be Technical Airborne Components Industries (TAC), or if the manufacturer cannot be identified, do a high frequency eddy current (HFEC) inspection for cracking of the crimped end of the rod body and, if any crack is found, before further flight, do all applicable related investigative and corrective actions.

(h) Parts Installation Limitations

As of the effective date of this AD, no person may install any affected TAC rod, as identified in Airbus Mandatory Service Bulletin A330-53-3186, Revision 01, dated April 7, 2011; or A340-53-4185, Revision 01, dated April 7, 2011; as applicable; on any airplane unless the rod has passed (found to have no cracking) the inspection as required by paragraph (g)(2) of this AD.

(i) Credit for Previous Actions

This paragraph provides credit for the inspections and corrective actions required by paragraph (g) of this AD, if those actions were performed before the effective date of this AD using Airbus Mandatory Service Bulletin A330-53-3186, dated January 17, 2011 (for Model A330 airplanes); or A340-53-4185, dated January 17, 2011 (for Model A340 airplanes); which are not incorporated by reference in this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to Mandatory Continuing Airworthiness Information (MCAI) European Aviation Safety Agency (EASA) Airworthiness Directive 2012-0005, dated January 10, 2012, and the Airbus service information identified in paragraphs (k)(1)(i) and (k)(1)(ii) of this AD, for related information.

(i) Airbus Mandatory Service Bulletin A330-53-3186, Revision 01, dated April 7, 2011.

(ii) Airbus Mandatory Service Bulletin A340-53-4185, Revision 01, dated April 7, 2011.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, WA. For information on the availability of this material at the FAA, call 425-227-1221.

(l) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Mandatory Service Bulletin A330-53-3186, Revision 01, dated April 7, 2011.

(ii) Airbus Mandatory Service Bulletin A340-53-4185, Revision 01, dated April 7, 2011

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on January 16, 2013.
Michael Kaszycki,
Acting Manager, Transport Airplane Directorate, Aircraft Certification Service.

[FR Doc. 2013-01822 Filed 1-31-13; 8:45 am]

BILLING CODE 4910-13-P